DEPARTMENT OF HEALTH AND HUMAN SERVICES

Food and Drug Administration

21 CFR Part 118

[Docket No. FDA-2000-N-0190]

Prevention of Salmonella Enteritidis in Shell Eggs During Production, Storage, and Transportation; Change of Registration Date, Address, and Telephone Number; Technical Amendment

AGENCY: Food and Drug Administration, HHS.

ACTION: Final rule; technical amendment.

SUMMARY: The Food and Drug Administration (FDA) is amending its regulations to correct the date by which producers must register their farm with FDA, reflect a change in the address and telephone number for requesting copies of Form No. 3733, and reflect a change in the address to which producers must send their CD-ROM. This action is editorial in nature and is intended to improve the accuracy of the agency's regulations.

DATES: Effective on April 13, 2010.

FOR FURTHER INFORMATION CONTACT: John Sheehan, Center for Food Safety and Applied Nutrition (HFS-315), Food and Drug Administration, 5100 Paint Branch Pkwy., College Park, MD 20740, 301-436-1488.

SUPPLEMENTARY INFORMATION: FDA is amending its regulations in 21 CFR part 118 to correct the following information: (1) The date by which egg producers must register their farm with FDA, (2) the address and telephone number for requesting copies of Form 3733, and (3) the address to which egg producers must send their CD-ROM. Publication of this document constitutes final action on this change under the Administrative Procedure Act (5 U.S.C. 553). Notice and public procedures are unnecessary because FDA is merely updating nonsubstantive content.

List of Subjects in 21 CFR Part 118

Eggs and egg products, Incorporation by reference, Recordkeeping requirements, Safety.

Therefore, under the Federal Food, Drug, and Cosmetic Act and under authority delegated to the Commissioner of Food and Drugs, 21 CFR part 118 is amended as follows:

PART 118—PRODUCTION, STORAGE, AND TRANSPORTATION OF SHELL EGGS

1. The authority citation for 21 CFR part 118 continues to read as follows:

Authority: 21 U.S.C. 321, 331-334, 342, 371, 381, 393; 42 U.S.C. 243, 264, 271.

2. In § 118.11, revise paragraphs (a), (b)(2)(i), and (b)(3)(vi) to read as follows:

§ 118.11 Registration requirements for shell egg producers covered by the requirements of this part.

(a) Shell egg producers covered under § 118.1(a) are required to register their farms with FDA within 30 days of becoming an egg producer or, if already an egg producer, by each farm's applicable compliance date.

(b) * * *

(2) * * *

(i) You must register using FDA Form No. 3733. You may obtain a copy of this form by writing to the U.S. Food and Drug Administration, 5600 Fishers Lane (HFS-681), Rockville, MD 20857, or by requesting the form by phone at 1-800-216-7331 or 301-575-0156.

(3) * * *

(vi) You must mail the CD-ROM to the U.S. Food and Drug Administration, 5600 Fishers Lane (HFS-681), Rockville, MD 20857.

Dated: April 7, 2010.
Leslie Kux,
Acting Assistant Commissioner for Policy.

[FR Doc. 2010-8358 Filed 4-12-10; 8:45 am]

BILLING CODE 4160-01-S